DEPARTMENT OF DEFENSE

GENERAL SERVICES ADMINISTRATION

NATIONAL AERONAUTICS AND SPACE ADMINISTRATION

48 CFR Chapter 1

[Docket No. FAR-2022-0051, Sequence No. 3]

Federal Acquisition Regulation; Federal Acquisition Circular 2022-06; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2022-06. A companion document, the Small Entity Compliance Guide (SECG), follows this FAC.

DATES: For effective dates see the separate documents, which follow.

ADDRESSES: The FAC, including the SECG, is available at https://www.regulations.gov.

FOR FURTHER INFORMATION CONTACT: The analyst whose name appears in the table below in relation to the FAR case. For information pertaining to status or publication schedules, contact the Regulatory Secretariat Division at 202-501-4755 or GSARegSec@gsa.gov.

Rules Listed in FAC 2022-06
Item | Subject | FAR case | Analyst
I | Applicability of Small Business Regulations Outside the United States | 2016-002 | Uddowla.
II | Technical Amendments

SUPPLEMENTARY INFORMATION: Summaries for each FAR rule follow. For the actual revisions and/or amendments made by these FAR rules, refer to the specific item numbers and subjects set forth in the documents following these item summaries. FAC 2022-06 amends the FAR as follows:

Item I—Applicability of Small Business Regulations Outside the United States (FAR Case 2016-002)

This final rule amends the Federal Acquisition Regulation (FAR) to give agencies the tools they need, especially the ability to use set-asides, to maximize opportunities for small businesses outside the United States or its outlying areas, as defined in FAR part 2. Prior to this rule, the FAR stated that the small business programs do not apply outside of the United States (FAR 19.000(b)). This rule supports the Small Business Administration (SBA) policy of including overseas contracts in agency small business contracting goals.

Item II—Technical Amendments

Editorial changes are made at FAR 4.402, 4.1103, 12.302, 12.402, 15.601, 18.205, 46.102, 52.212-5, and 52.222-54.

William F. Clark,
Director, Office of Government-wide Acquisition Policy, Office of Acquisition Policy, Office of Government-wide Policy.

Federal Acquisition Circular (FAC) 2022-06 is issued under the authority of the Secretary of Defense, the Administrator of General Services, and the Administrator of National Aeronautics and Space Administration.

Unless otherwise specified, all Federal Acquisition Regulation (FAR) and other directive material contained in FAC 2022-06 is effective April 26, 2022 except for Item I, which is effective May 26, 2022, and Item II, which is effective May 1, 2022.

Linda W. Neilson

Director, Defense Pricing and Contracting (DARS) Department of Defense.

Jeffrey A. Koses,

Senior Procurement Executive/Deputy CAO, Office of Acquisition Policy, U.S. General Services Administration.

Karla Smith Jackson,

Assistant Administrator for Procurement, Senior Procurement Executive, National Aeronautics and Space Administration.

[FR Doc. 2022-08720 Filed 4-25-22; 8:45 am]

BILLING CODE 6820-EP-P